DEPARTMENT OF AGRICULTURE

Forest Service

Lake Tahoe Federal Advisory Committee

AGENCY: Forest Service, USDA.

ACTION: Notice of Reestablishment of the U.S. Department of Agriculture (USDA) Lake Tahoe Federal Advisory Committee (LTFAC) and a Request for Applications.

SUMMARY: The Forest Service intends to reestablish the Lake Tahoe Federal Advisory Committee (Committee). The purpose of the Committee is to provide advice to the Secretary of Agriculture and to the Federal Interagency Partnership on how the Partnership can best fulfill its duties pursuant to Executive Order 13057 to protect the extraordinary natural, recreational, and ecological resources in the Lake Tahoe Region. The Forest Service seeks applications of individuals to be considered for selection as committee members.

DATES: Application packets must be received on or before July 20, 2012.

ADDRESSES: Mail application packets to LTFAC Applications, Attention: Aria Hains, Lake Tahoe Basin Management Unit, USDA Forest Service, 35 College Drive, South Lake Tahoe, CA 96150, postmarked by July 20, 2012.

FOR FURTHER INFORMATION CONTACT: The Committee applicant packet can be downloaded from the Lake Tahoe Basin Management Unit's Web site at http://fs.usda.gov/goto/ltbmu/LTFAC or obtained from Arla Hains, Lake Tahoe Basin Management Unit, by calling (530) 543-2773, or send an email request to ashain@fs.fed.us.

SUPPLEMENTARY INFORMATION: The Secretary of Agriculture chartered the 20-person advisory committee under the Federal Advisory Committee Act on July 13, 1998. This Committee provides a critical role in advising the Secretary of Agriculture and the Lake Tahoe Federal Interagency Partnership on coordinating federal programs to achieve the goals of the Lake Tahoe Environmental Improvement Program. The Committee charter and membership is renewed every two years. LTFAC members will represent a broad array of interests in the Lake Tahoe Basin. Two representatives will be selected as members-at-large, and one representative will be selected from each of the follow sectors: (1) Gaming, (2) environmental, (3) national environmental, (4) ski resorts, (5) North Shore Economic/Recreation, (6) South Shore Economic/Recreation, (7) resorts associations, (8) education, (9) property rights advocates, (10) science and research, (11) California local government, (12) Washoe Tribe, (13) State of California, (14) State of Nevada, (15) Tahoe Regional Planning Agency, (16) labor, (17) transportation, and (18) Nevada local government. The committee meets a minimum of four times a year alternating locations between the north and south shore areas. The Forest Service has special interest in assuring that women, minority groups, and the physically disabled are adequately represented on the LTFAC. We encourage and welcome applications for qualified female, minority, or disabled candidates.

Dated: June 5, 2012.
Cheva Heck,
Acting Forest Supervisor.

[FR Doc. 2012-14081 Filed 6-8-12; 8:45 am]

BILLING CODE 3410-11-P